DEPARTMENT OF THE INTERIOR

National Park Service

[NPS-WASO-NAGPRA-NPS0026441; PPWOCRADN0-PCU00RP14.R50000]

Notice of Intent To Repatriate Cultural Items: Fowler Museum at the University of California Los Angeles, Los Angeles, CA

AGENCY: National Park Service, Interior.

ACTION: Notice.

SUMMARY: The Fowler Museum at the University of California Los Angeles (UCLA), in consultation with the appropriate Indian Tribes or Native Hawaiian organizations, has determined that the cultural items listed in this notice meet the definition of unassociated funerary objects. Lineal descendants or representatives of any Indian Tribe or Native Hawaiian organization not identified in this notice that wish to claim these cultural items should submit a written request to the Fowler Museum at UCLA. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Fowler Museum at UCLA at the address in this notice by November 19, 2018.

ADDRESSES: Wendy G. Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3005, of the intent to repatriate cultural items under the control of the Fowler Museum at UCLA that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1978 and 1979, 132 cultural items were removed from Lindero Canyon (CA-VEN-606) in Ventura County, CA. Collections from the site derive from the survey and excavation undertaken during the North Ranch Inland Chumash research project, led by Dr. William Clewlow Jr., on land privately owned by the Prudential Insurance Company. A cemetery was discovered during the 1979 excavations. Thirteen burials were uncovered and left in-situ, but burial objects were removed for study. The unassociated funerary objects were removed from six of the burials and were transferred to UCLA in 1979. The site has been dated to the Late Period, A.D. 1300-1650. The 132 unassociated funerary objects are: 12 pieces and four bags of shell fragments, two shell beads, 62 stone flakes, one cobble, three quartz crystals, 41 pieces and two bags of unmodified animal bone fragments, four ochre fragments, and one charcoal lump.

Determinations Made by the Fowler Museum at UCLA

Officials of the Fowler Museum at UCLA have determined that:

• Pursuant to 25 U.S.C. 3001(3)(B), the 132 cultural items described above are reasonably believed to have been placed with or near individual human remains at the time of death or later as part of the death rite or ceremony and are believed, by a preponderance of the evidence, to have been removed from the specific burial sites of Native American individuals.

• Pursuant to 25 U.S.C. 3001(2), there is a relationship of shared group identity that can be reasonably traced between the unassociated funerary objects and the Santa Ynez Band of Chumash Mission Indians of the Santa Ynez Reservation, California.

Additional Requestors and Disposition

Lineal descendants or representatives of any Indian Tribe or Native Hawaiian organization not identified in this notice that wish to claim these cultural items should submit a written request with information in support of the claim to Wendy G. Teeter, Ph.D., Fowler Museum at UCLA, Box 951549, Los Angeles, CA 90095-1549, telephone (310) 825-1864, email wteeter@arts.ucla.edu, by November 19, 2018. After that date, if no additional claimants have come forward, transfer of control of the unassociated funerary objects to the Santa Ynez Band of Chumash Mission Indians of the Santa Ynez Reservation, California may proceed.

The Fowler Museum at UCLA is responsible for notifying the Santa Ynez Band of Chumash Mission Indians of the Santa Ynez Reservation, California that this notice has been published.

Dated: September 6, 2018.
Melanie O'Brien,
Manager, National NAGPRA Program.

[FR Doc. 2018-22792 Filed 10-18-18; 8:45 am]

BILLING CODE 4312-52-P